DEPARTMENT OF COMMERCE

International Trade Administration

Internet Export Finance Matchmaker; Proposed Collection; Comment Request

AGENCY: International Trade Administration, Department of Commerce.

ACTION: Proposed collection; comment request.

SUMMARY: The Department of Commerce, as part of its continuing effort to reduce paperwork and respondent burdens, invites the general public and other Federal agencies to take this opportunity to comment on the continuing information collections, as required by the Paperwork Reduction Act of 1995, Public Law 104-13 (44 U.S.C. 3506(c)(2)(A)).

DATES: Written comments must be submitted on or before February 6, 2007.

ADDRESSES: Direct all written comments to Diana Hynek, Departmental Paperwork Clearance Officer, Department of Commerce, Room 6625, 1401 Constitution Ave., NW., Washington, DC 20230, or e-mail dHynek@doc.gov.

FOR FURTHER INFORMATION CONTACT: Request for additional information or copies of the information collection instrument and instructions should be directed to: Jessica Sanderson, The Advocacy Center, Room 3814A, Department of Commerce, 1401 Constitution Ave., NW., Washington, DC 20230; Phone number: (202) 482-2429, and fax number; (202) 482-3508.

SUPPLEMENTARY INFORMATION:

I. Abstract

The U.S. Department of Commerce invites the general public and other Federal agencies to comment on the proposed extension of the use of the Internet Export Finance Matchmaker. The program is used to assist U.S. firms in identifying trade finance opportunities and promoting the competitiveness of U.S. financial services in international trade. The mission of the International Trade Administration (ITA) is to coordinate U.S. Government (USG) commercial advocacy in order to promote U.S. exports and trade, which both creates and sustains U.S. employment. The ITA interacts with private financial institutions in insurance, banking, leasing, factoring, bartering, and counter-trade; U.S. financing agencies, such as the Export-Import Bank and the Overseas Private Investment Corporation; multilateral development banks, such as the World Bank, Asian Development Bank, and others.

To facilitate contact between exporters and financial institutions, the Office of Finance has developed an interactive Internet trade finance matchmaking program to link exporters seeking trade finance with banks and other financial institutions. The information collected from financial institutions regarding the trade finance products and services they offer is compiled into a database. An exporter is able to electronically submit a one-page form identifying the potential export transaction and type of financing requested. This information is electronically matched with the financial institution(s) that meet the requirements of the exporter. After a match has been made, a message is electronically sent to both the exporter and the financial institution containing information about the match, and contact information for either party to initiate communication. This program is designed to implement the Department of Commerce's goal of improving access to trade financing for small business exporters.

II. Method of Collection

Electronic submission to the International Trade Administration.

III. Data

OMB Number: 0625-0232.

Form Number: ITA-4146P.

Type of Review: Regular Submission.

Affected Public: Business or other For-Profit Organizations.

Estimated Number of Respondents: 500.

Estimated Time per Response: Exporters: 10 Minutes.

Financial Institutions: 30 Minutes.

Estimated Total Annual Burden Hours: 90.

Estimated Total Annual Costs: $3,150.

IV. Request for Comments

Comments are invited on (a) Whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology. Comments submitted in response to this notice will be summarized and/or included in the request for OMB approval of this information collection; they also will become a matter of public record.

Dated: December 5, 2006.
Madeleine Clayton,
Management Analyst, Office of the Chief Information Officer.

[FR Doc. E6-20883 Filed 12-7-06; 8:45 am]

BILLING CODE 3510-FP-P